INTERNATIONAL TRADE COMMISSION

[Investigation No. 337-TA-659 (Enforcement)]

Certain Prepregs, Laminates, and Finished Circuit Boards

AGENCY: U.S. International Trade Commission.

ACTION: Notice.

SUMMARY: Notice is hereby given that the U.S. International Trade Commission has determined to grant a petition to rescind a consent order and not to review an ID (Order No. 20) of the administrative law judge (“ALJ”) terminating the above-captioned enforcement proceeding on the basis of a settlement agreement. Thus, the Commission hereby rescinds the April 10, 2009, consent order against Taiwan Union Technology Corp. (“TUC”) and terminates the enforcement proceeding.

FOR FURTHER INFORMATION CONTACT: James A. Worth, Office of the General Counsel, U.S. International Trade Commission, 500 E Street SW., Washington, DC 20436, telephone (202) 205-3065. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted the underlying investigation in this matter on November 12, 2008, based upon a complaint filed on behalf of Isola USA Corp. of Chandler, Arizona (“Isola”) on October 6, 2008, and supplemented on October 28, 2008. 73 FR 66919 (November 12, 2008). The complaint alleged violations of section 337 of the Tariff Act of 1930 (19 U.S.C. 1337) in the importation into the United States, the sale for importation, and the sale within the United States after importation of certain prepregs, laminates, and finished circuit boards that infringe certain claims of United States Patent Nos. 6,187,852 (“the ‘852 patent”); 6,322,885 (“the ‘885 patent”); and 6,509,414 (“the ‘414 patent”). The notice of investigation named seven firms as respondents. On December 22, 2008, the Commission issued notice of its determinations not to review IDs terminating the investigation with respect to respondents Sanmina-SCI Corp. and ITEQ Corp. based on settlement agreements. On January 9, 2009, the Commission issued notice of its determination not to review an ID terminating the investigation with respect to the ‘414 patent.

On March 19, 2009, the Commission issued notice of its determination not to review an ID terminating the investigation as to respondents VENTEC Electronics (Suzhou) Co., Ltd., VENTEC Electronics (HK) Co., Ltd., and VENTEC-Global Laminates USA LLC based on a consent order. On April 10, 2009, the Commission issued notice of its determination not to review an ID granting a joint motion to terminate the investigation as to TUC based on a consent order. The consent orders prohibit the sale for importation, importation, or sale after importation into the United States of certain prepregs and laminates that are the subject of the investigation or that otherwise infringe, induce, and/or contribute to the infringement of claims 1-3, 5, and 8 of the ‘852 patent and claims 1, 2, 4, and 7-9 of the ‘885 patent. On May 11, 2009, the Commission issued notice of its determination not to review an ID granting Isola's motion to withdraw the complaint as to respondent Guangdong Shengyi Sci. Tech Co., Ltd., and terminated the investigation.

On August 14, 2012, Isola filed a complaint for enforcement proceedings against TUC under Commission Rule 210.75(b). On October 2, 2012, the Commission determined that the criteria for institution of enforcement proceedings were satisfied and instituted enforcement proceedings, naming TUC as a respondent. 77 FR 61025 (October 5, 2012). The complaint for enforcement asserts that TUC has violated the April 10, 2009, consent order by importing or causing to be imported infringing articles identified as TU-862 HF and TU-86P HF.

On February 25, 2013, Isola and TUC jointly petitioned the Commission to rescind the consent order issued against TUC on April 10, 2009, based on a settlement agreement and license. Also on February 25, 2013, Isola and TUC filed a joint motion to terminate the enforcement proceeding on the basis of a settlement agreement. On March 7, 2013, the Commission investigative attorney filed separate responses in support.

On March 18, 2013, the ALJ issued the subject ID, granting the motion. The ALJ found that termination of the enforcement proceeding does not impose any undue burdens on the public health and welfare, competitive conditions in the United States economy, or United States consumers. No petitions for review were filed.

Having considered the ID and the relevant portions of the record, the Commission has determined (1) to grant the joint petition to rescind the consent order and (2) not to review the subject ID. Thus, the Commission hereby rescinds the April 10, 2009, consent order against TUC and terminates the enforcement proceeding.

This action is taken under the authority of section 337 of the Tariff Act of 1930, as amended (19 U.S.C. 1337), and of sections 210.42(h), 210.21(c)(3)(ii), and 210.76 of the Commission's Rules of Practice and Procedure (19 CFR 210.42(h), 210.21(c)(3)(ii), and 210.76).

Issued: April 15, 2013.
By order of the Commission.
Lisa R. Barton,
Acting Secretary to the Commission.

[FR Doc. 2013-09183 Filed 4-18-13; 8:45 am]

BILLING CODE 7020-02-P